DEPARTMENT OF THE INTERIOR

Bureau of Land Management

[UTU 13113]

Public Land Order No. 7662; Partial Revocation of Public Land Order No. 5047; Utah

AGENCY: Bureau of Land Management, Interior.

ACTION: Public Land Order.

SUMMARY: This order partially revokes a Public Land Order insofar as it affects 200 acres of National Forest System lands withdrawn for the Clear Creek Recreation Area.

DATES: Effective Date: May 3, 2006.

FOR FURTHER INFORMATION CONTACT: Marsha Fryer, Forest Service, Intermountain Region, 324-25th Street, Ogden, Utah 84401-2310, 801-625-5802.

SUPPLEMENTARY INFORMATION: The Forest Service has determined that these lands no longer need to be withdrawn and has requested the revocation. The lands will not be opened to mining until completion of an analysis to determine if any of the lands need special designation.

Order

By virtue of the authority vested in the Secretary of the Interior by Section 204 of the Federal Land Policy and Management Act of 1976, 43 U.S.C. 1714 (2000), it is ordered as follows:

1. Public Land Order No. 5047, which withdrew National Forest System lands for the Clear Creek Recreation Area, is hereby revoked insofar as it affects the following described lands:

Sawtooth National Forest

Salt Lake Meridian

T. 14 N., R. 13 W.,

Sec. 8, E½SE¼SE¼;

Sec. 9, S½S½ and S½NE¼SE¼.

The areas described aggregate 200 acres in Box Elder County.

Dated: April 17, 2006.
Mark Limbaugh,
Assistant Secretary of the Interior.

[FR Doc. E6-6686 Filed 5-2-06; 8:45 am]

BILLING CODE 3410-11-P